DEPARTMENT OF HEALTH AND HUMAN SERVICES

Centers for Disease Control and Prevention

Interagency Committee on Smoking and Health (ICSH); Notice of Charter Renewal

AGENCY: Centers for Disease Control and Prevention (CDC), Department of Health and Human Services (HHS).

ACTION: Notice of charter renewal.

SUMMARY: The Centers for Disease Control and Prevention (CDC), within the Department of Health and Human Services (HHS) announces the renewal of the charter of the Interagency Committee on Smoking and Health (ICSH).

FOR FURTHER INFORMATION CONTACT: Bob Vollinger, DrPh, MSPH, Designated Federal Officer, Interagency Committee on Smoking and Health, Centers for Disease Control and Prevention, Patriots Plaza 1, 395 E Street SW, Suite 9000, Washington, District of Columbia 20024. Telephone: (301) 605-5841; Email: Bob.Vollinger@cdc.gov.

SUPPLEMENTARY INFORMATION: CDC is providing notice under 5 U.S.C. 1001-1014. This charter has been renewed for a two-year period through March 20, 2025.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-06845 Filed 3-31-23; 8:45 am]

BILLING CODE 4163-18-P